FEDERAL TRADE COMMISSION

[File No. P072108]

Agency Information Collection Activities; Proposed Collection; Comment Request; Extension

AGENCY: Federal Trade Commission.

ACTION: Notice.

SUMMARY: The Federal Trade Commission (“FTC” or “Commission”) is seeking public comments on its proposal to extend for an additional three years the current Paperwork Reduction Act (“PRA”) clearance for information collection requirements contained in the Commission's rules and regulations under the Textile Fiber Products Identification Act (“Textile Rules”). That clearance expires on June 30, 2024.

DATES: Comments must be filed by March 19, 2024.

ADDRESSES: Interested parties may file a comment online or on paper, by following the instructions in the Request for Comment part of the SUPPLEMENTARY INFORMATION section below. Write “Textile Rules; PRA Comment: FTC File No. P072108” on your comment, and file your comment online at https://www.regulations.gov by following the instructions on the web-based form. If you prefer to file your comment on paper, mail your comment to the following address: Federal Trade Commission, Office of the Secretary, 600 Pennsylvania Avenue NW, Suite CC-5610 (Annex J), Washington, DC 20580.

FOR FURTHER INFORMATION CONTACT: Jock K. Chung, Attorney, Division of Enforcement, Bureau of Consumer Protection, Federal Trade Commission, Mail Code CC-9528, 600 Pennsylvania Avenue NW, Washington, DC 20580, (202) 326-2984.

SUPPLEMENTARY INFORMATION:

Title of Collection: Rules and Regulations under the Textile Fiber Products Identification Act, 16 CFR part 303.

OMB Control Number: 3084-0101.

Type of Review: Extension without change of currently approved collection.

Abstract: The Textile Fiber Products Identification Act (Textile Act) ¹ prohibits the misbranding and false advertising of textile fiber products. The Textile Rules establish disclosure requirements that assist consumers in making informed purchasing decisions, and recordkeeping requirements that assist the Commission in enforcing the Rules. The Rules also contain a petition procedure for requesting the establishment of generic names for textile fibers.

¹ 15 U.S.C. 70 et seq.

Likely Respondents: Manufacturers, importers, processors, and marketers of textile fiber products.

Frequency of Response: Third party disclosure; recordkeeping requirement.

Estimated Annual Burden Hours: 43,234,317 hours (1,180,725 recordkeeping hours + 42,053,592 disclosure hours).

Recordkeeping: 1,180,725 hours (approximately 18,165 textile firms incur average burden of 65 hours per firm).

Disclosure: 42,053,592 hours (621,725 hours to determine label content + 765,200 hours to draft and order labels + 40,666,667 hours to attach labels).

Estimated Annual Cost Burden: $324,538,414.59.

As required by section 3506(c)(2)(A) of the PRA, 44 U.S.C. 3506(c)(2)(A), the FTC is providing this opportunity for public comment before requesting that OMB extend the existing clearance for the information collection requirements contained in the Textile Rules.

Burden Statement

FTC staff's burden estimates are based on data from the Department of Commerce's Bureau of the Census and International Trade Administration, the Department of Labor's Bureau of Labor Statistics (BLS), and data or other input from the main industry association, the American Apparel and Footwear Association (AAFA), and from SICCode.com, which specializes in the business classification of SIC (Standard Industrial Classification) and NAICS (North American Industry Classification System) codes for business identification, verification, and targeting. The AAFA, a national trade association that represents U.S. apparel, footwear and other sewn products companies and their suppliers, has stated that “[t]he use of labels on textiles and apparels is beneficial to consumers, manufacturers, and business in general as it allows for the necessary flow of information along the supply chain.” ² The relevant information collection requirements in these Rules and staff's corresponding burden estimates follow. The estimates address the number of hours needed and the labor costs incurred to comply with the requirements. FTC staff believes that a significant portion of hours and labor costs currently attributable to burden below are time and financial resources usually and customarily incurred by persons in the course of their regular activity (e.g., industry participants already have and/or would have fiber content labels regardless of the Rules) and could be excluded from PRA-related burden.³

² Page one from comment by Kevin M. Burke, President and CEO, American Apparel & Footwear Association, March 26, 2012, Advance Notice of Proposed Rulemaking; Request for Public Comment; Rules and Regulations under the Wool Products Labeling Act of 1939; 77 FR 4498 (Jan. 30, 2012).

³ 5 CFR 1320.3(b)(2).

Estimated Annual Burden Hours: 43,234,317 hours (1,180,725 recordkeeping hours + 42,053,592 disclosure hours).

Recordkeeping: FTC staff estimates that approximately 18,165 textile firms are subject to the Textile Rules' recordkeeping requirements. Based on an average burden of 65 hours per firm, the total recordkeeping burden is 1,180,725 hours.

Disclosure: Approximately 9,565 textile firms, producing or importing about 24.4 billion textile fiber products annually, are subject to the Textile Rules' disclosure requirements.⁴

⁴ The estimated consumption of garments in the U.S. in 2022 was 22.8 billion. However, FTC staff estimates that 1.2 billion garments are exempt from the Textile Act (i.e., any kind of headwear and garments made from something other than a textile fiber product, such as leather) or are subject to a special exemption for hosiery products sold in packages where the label information is contained on the package. Based on available data, FTC staff estimates that an additional 3.5 billion household textile products (non-garments, such as sheets, towels, blankets) were consumed. However, approximately 0.7 billion of all of these garments and household products are subject to the Wool Act, not the Textile Act, because they contain some amount of wool. Thus, the estimated net total products subject to the Textile Act is 24.4 billion (22.8 − 1.2 + 3.5 = 25.1 − 0.7 = 24.4 billion).

FTC staff estimates that the burden of determining label content is 65 hours per year per firm, or a total of 621,725 hours, and the burden of drafting and ordering labels is 80 hours per firm per year, or a total of 765,200 hours. FTC staff believes that the process of attaching labels is now fully automated and integrated into other production steps for about 40 percent of all affected products. For the remaining 14.64 billion items (60 percent of 24.4 billion), the process is semi-automated and requires an average of approximately ten seconds per item, for a total of 40,666,667 hours per year. Thus, the total estimated annual disclosure burden for all firms is 42,053,592 hours (621,725 hours to determine label content + 765,200 hours to draft and order labels + 40,666,667 hours to attach labels).⁵ FTC staff believes that any additional burden associated with advertising disclosure requirements or the filing of generic fiber name petitions would be minimal (less than 10,000 hours) and can be subsumed within the burden estimates set forth above.

⁵ The Commission revised the Textile Rules in 2006 in response to amendments to the Textile Act. See 70 FR 73369 (Dec. 12, 2005). These amendments concerned the placement of labels on packages of certain types of socks and, therefore, do not place any additional disclosure burden on covered entities. In 2014, the Commission revised the Textile Rules to clarify and streamline certain provisions and to allow more flexibility in marketing textile products (e.g., allowing the use of certain hang-tags that do not disclose the product's full fiber content). The Commission sought comment on the increased burden, if any, imposed by these changes but did not receive any comments asserting that the amendments would increase compliance costs. See 79 FR 18766 (Apr. 4, 2014).

Estimated Annual Cost Burden: $324,538,414.59. The chart below summarizes the total estimated costs.

⁶ The wage rate for supervisors of office and administrative support workers is based on data through May 2022 from the Bureau of Labor Statistics Occupational Employment Statistics Survey at https://www.bls.gov/news.release/ocwage.htm (released on Apr. 25, 2023).

⁷ The wage rate for correspondence clerks is based on recent data from the Bureau of Labor Statistics Occupational Employment Statistics Survey at https://www.bls.gov/news.release/ocwage.htm.

⁸ For imported products, the labels generally are attached in the country where the products are manufactured. According to information compiled by an industry trade association using data from the U.S. Department of Commerce, International Trade Administration and the U.S. Census Bureau, approximately 97.1% of apparel used in the United States is imported. With the remaining 2.9% attributable to U.S. production at an approximate domestic hourly wage of $12 to attach labels, FTC staff has calculated a weighted average hourly wage of $6.52 per hour attributable to U.S. and foreign labor combined.

⁹ This estimate includes the wage rate for correspondence clerks.

Task | Hourly rate | Burden hours | Labor cost
Determine label content | ⁶ $31.49 | 621,725 | $19,578,120.25
Draft and order labels | ⁷ 20.46 | 765,200 | 15,655,992.00
Attach labels | ⁸ 6.52 | 40,666,667 | 265,146,668.84
Recordkeeping | ⁹ 20.46 | 1,180,725 | 24,157,633.50
Total |  |  | 324,538,414.59

FTC staff believes that there are no current start-up costs or other capital costs associated with the Textile Rules. Because the labeling of textile products has been an integral part of the manufacturing process for decades, manufacturers have in place the capital equipment necessary to comply with the Rules' labeling requirements. Industry sources indicate that much of the information required by the Textile Act and Rules would be included on the product label even absent their requirements. Similarly, recordkeeping, invoicing, and advertising disclosures are tasks performed in the ordinary course of business; therefore, covered firms would incur no additional capital or other non-labor costs as a result of the Rules.

Request for Comment

Pursuant to section 3506(c)(2)(A) of the PRA, the FTC invites comments on: (1) whether the disclosure and recordkeeping requirements are necessary, including whether the information will be practically useful; (2) the accuracy of our burden estimates, including whether the methodology and assumptions used are valid; (3) ways to enhance the quality, utility, and clarity of the information to be collected; and (4) ways to minimize the burden of the collection of information.

For the FTC to consider a comment, we must receive it on or before March 19, 2024. Your comment, including your name and your state, will be placed on the public record of this proceeding, including the https://www.regulations.gov website.

You can file a comment online or on paper. Due to heightened security screening, postal mail addressed to the Commission will be subject to delay. We encourage you to submit your comments online through the https://www.regulations.gov website.

If you file your comment on paper, write “Textile Rules; PRA Comment: FTC File No. P072108” on your comment and on the envelope, and mail it to the following address: Federal Trade Commission, Office of the Secretary, 600 Pennsylvania Avenue NW, Suite CC-5610 (Annex J), Washington, DC 20580.

Because your comment will become publicly available at https://www.regulations.gov, you are solely responsible for making sure that your comment does not include any sensitive or confidential information. In particular, your comment should not include any sensitive personal information, such as your or anyone else's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by section 6(f) of the FTC Act, 15 U.S.C. 46(f), and FTC Rule 4.10(a)(2), 16 CFR 4.10(a)(2)—including, in particular, competitively sensitive information, such as costs, sales statistics, inventories, formulas, patterns, devices, manufacturing processes, or customer names.

Comments containing material for which confidential treatment is requested must (1) be filed in paper form, (2) be clearly labeled “Confidential,” and (3) comply with FTC Rule 4.9(c). In particular, the written request for confidential treatment that accompanies the comment must include the factual and legal basis for the request and must identify the specific portions of the comment to be withheld from the public record. See FTC Rule 4.9(c). Your comment will be kept confidential only if the General Counsel grants your request in accordance with the law and the public interest. Once your comment has been posted publicly at www.regulations.gov, we cannot redact or remove your comment unless you submit a confidentiality request that meets the requirements for such treatment under FTC Rule 4.9(c), and the General Counsel grants that request.

The FTC Act and other laws that the Commission administers permit the collection of public comments to consider and use in this proceeding as appropriate. The Commission will consider all timely and responsive public comments that it receives on or before March 19, 2024. For information on the Commission's privacy policy, including routine uses permitted by the Privacy Act, see https://www.ftc.gov/site-information/privacy-policy.

Josephine Liu,
Assistant General Counsel for Legal Counsel.

[FR Doc. 2024-01001 Filed 1-18-24; 8:45 am]

BILLING CODE 6750-01-P